DEPARTMENT OF JUSTICE

Office of Justice Programs

Bureau of Justice Statistics; Agency Information Collection Activities; Proposed Collection; Comment Request

ACTION: Notice of information collection under review; New collection; Census of State and local law enforcement agencies.

Office of Management and Budget approval is being sought for the information collection listed below. This proposed information collection was previously published in the Federal Register on January 20, 2000, at 65 FR 3249 allowing for a 60-day public comment period. No comments were received by the Bureau of Justice Statistics.

The purpose of this notice is to allow an additional 30 days for public comments. Comments are encouraged and will be accepted until May 8, 2000. This process is conducted in accordance with 5 CFR part 1320.10.

Written comments and suggestions from the public and affected agencies concerning the proposed collection of information should address one or more of the following points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected;

(4) Minimize the burden of the collection of information on those who are to respond through the use of appropriate automated, electronic mechanical, other technological collection techniques, or other forms of information technology that permit electronic submissions of responses.

Overview of This Information Collection

(1) Type of information collection: New collection.

(2) Title of the form/collection: 2000 Census of State and Local Law Enforcement Agencies.

(3) Agency form numbers and the applicable component of the Department sponsoring the collection: Forms CJ-38L and CJ-38S; Law Enforcement Statistics, Bureau of Justice statistics, Office of Justice Programs,U.S. Department of Justice.

(4) Affected public who will be asked or required to respond, as well as a brief abstract: State and local government agencies; The Census of State and Local Law Enforcement Agencies provides a comprehensive assessment of the characteristics of State and local law enforcement agencies in terms of functions performed, number of personnel, requirements for entry-level officers, types of equipment used, degree of computerization, special policies and programs, and community policing activities.

(5) An estimate of the total number of respondents and the amount of time estimated for an average respondent to respond: A total of 19,000 respondents at 44 minutes per response. This includes 3,000 respondents to from CJ-38L at 2 hours per response,and 16,000 respondents to form CJ-38S at 30 minutes per response.

(6) An estimate of the total public burden (in hours) associated with the collection: 14,000 annual burden hours.

If you have additional comments, suggestions, or need a copy of the proposed collection instrument with instruction, or additional information, please contact Brenda E. Dyer, Deputy Clearance Officer, U.S. Department of Justice. Information Management and Security Staff, Justice Management Division, 1331 Pennsylvania Avenue, NW, suite 1220, Washington, DC 20530.

Dated: March 31, 2000.
Brenda E. Dyer,
Deputy Clearance Officer, U.S. Department of Justice.

[FR Doc. 00-8422 Filed 4-5-00; 8:45 am]

BILLING CODE 4410-18-M